DEPARTMENT OF TRANSPORTATION

Federal Aviation Administration

14 CFR Parts 21 and 45

[Docket No. FAA-2013-0933]

RIN 2120-AK20

Changes to Production Certificates and Approvals; Notice of Availability of Proposed Advisory Circulars

AGENCY: Federal Aviation Administration (FAA), DOT.

ACTION: Notice of availability and request for comments.

SUMMARY: This notice announces the availability of and request for comments on proposed revisions to three FAA Advisory Circulars (ACs). The proposed revisions correspond to proposed regulatory changes outlined in the FAA's February 27, 2014, notice of proposed rulemaking (NPRM), Changes to Production Certificates and Approvals. Due to erroneous information in the docket that may have led commenters not to submit their views on the ACs, the FAA will accept comment on the three ACs only, and not on the regulatory changes proposed in the NPRM. The three ACs include: AC 21-43, Production Under 14 CFR Part 21, Subparts F, G, K, and O; AC 21-44, Issuance of Export Airworthiness Approvals Under 14 CFR Part 21 Subpart L; and AC 45-2, Identification and Registration Marking.

DATES: Comments must be received on or before January 21, 2015.

ADDRESSES: You may send comments identified by docket number FAA-2013-0933 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: For technical questions concerning this action, contact Priscilla Steward or Robert Cook, Aircraft Certification Service, Production Certification Branch, AIR-112, Federal Aviation Administration, 800 Independence Avenue SW., Washington, DC 20591; telephone: (202) 267-1656; email: priscilla.steward@faa.gov; or telephone: (202) 267-1590; email: robert.cook@faa.gov.

For legal questions concerning this action, contact Benjamin Jacobs, AGC-210, Office of the Chief Counsel, International Law, Legislation, and Regulations Division, Federal Aviation Administration, 800 Independence Avenue SW., Washington, DC 20591; telephone: (202) 267-7240; email: benjamin.jacobs@faa.gov.

SUPPLEMENTARY INFORMATION: See the “Additional Information” section for information on how to comment on these proposed ACs and how the FAA will handle comments received. The “Additional Information” section also contains information related to the docket, privacy, and the handling of proprietary or confidential business information. In addition, there is information on obtaining copies of related rulemaking documents.

Background

On February 27, 2014, the FAA issued Notice No. 14-10, “Changes to Production Certificates and Approvals” (79 FR 11004). In addition to the NPRM, the FAA proposed revisions to three advisory circulars (ACs):

(1) AC No. 21-43A, Production Under 14 CFR Part 21, subparts F, G, K, and O, provides information about Title 14 of the Code of Federal Regulations (14 CFR) part 21, Certification Procedures for Products and Parts. This AC addresses the manufacturing and production requirements of part 21, subpart F, Production Under Type Certificate; subpart G, Production Certificates; subpart K, Parts Manufacturer Approvals; and subpart O, Technical Standard Order Approvals. This AC provides guidance on how a production approval applicant or production approval holder should develop and maintain its quality system. In addition, the AC provides guidance on how to meet the production-related requirements of subparts F, G, K, and O.

(2) AC No. 21-44A, Issuance of Export Airworthiness Approvals Under 14 CFR Part 21 Subpart L, provides guidance for an acceptable means, but not the only means, to comply with requirements in Title 14, Code of Federal Regulations (14 CFR) part 21, Certification Procedures for Products, Articles, and Parts, subpart L, Export Airworthiness Approvals.

(3) AC No. 45-2E, Identification and Registration Marking, provides information about Title 14, Code of Federal Regulations (14 CFR), part 45, Identification and Registration Marking. This AC describes an acceptable means, but not the only means, to comply with the requirements for marking aircraft and aircraft engines with identification plates, marking of propellers, and marking aircraft with nationality and registration marks.

Copies of these revised ACs were included in the docket along with the NPRM, and the FAA requested that members of the public submit any comments on or before May 28, 2014. However, due to erroneous information in the docket, commenters on the ACs were led to believe they could not file their comments on the ACs during the comment period. Therefore, to ensure that the public has the opportunity to provide comments specifically on the ACs posted in the docket (FAA-2013-0933), the FAA is opening a 30-day comment period to allow for comments on the referenced ACs only. The FAA will not accept or address comments on the NPRM because the comment period for the NPRM closed on May 28, 2014.

Additional Information

A. Comments Invited

The FAA invites interested persons to participate in this request for comment by submitting written comments, data, or views. The most helpful comments should reference a specific portion of the AC, explain the reason for any recommended change, and include supporting data. To ensure the docket does not contain duplicate comments, commenters should send only one copy of written comments, or if comments are filed electronically, commenters should submit them only one time. All comments received on or before the closing date for comments will be considered by the FAA before we issue the final ACs.

Proprietary or Confidential Business Information: Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under the DOT procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number when submitting a request.

Issued under authority provided by 49 U.S.C. 106(f), 44701(a), and 44703 in Washington, DC, on December 12, 2015.
Frank P. Paskiewicz,
Deputy Director, Aircraft Certification Service.

[FR Doc. 2014-29799 Filed 12-19-14; 8:45 am]

BILLING CODE 4910-13-P